DEPARTMENT OF THE INTERIOR

National Park Service

60-Day Notice of Intention to Request Clearance of Collection Information; Opportunity for Public Comment

AGENCY: The Department of the Interior; National Park Service.

ACTION: Notice of request for comments.

SUMMARY: Under provisions of the Paperwork Reduction Act of 1995 and 5 CFR part 1320, Reporting and Recordkeeping Requirements, the National Park Service (NPS) invites public comments on an extension of a currently approved collection of information (OMB# 1024-0233).

DATES: Public comments will be accepted on or before May 29, 2007.

ADDRESSES: Send comments to Jo A. Pendry, Concession Program Manager, National Park Service, 1849 C Street NW., (2410), Washington, DC 20240, e-mail jo_pendry@nps.gov. Also, you may send comments to Leonard Stowe, NPS Information Collection Clearance Officer, 1849 C St., NW., (2605), Washington, DC 20240, or by e-mail at leonard_stowe@nps.gov. All responses to this notice will be summarized and included in the request for the Office of Management and Budget (OMB) approval. All comments will become a matter of public record.

FOR FURTHER INFORMATION CONTACT: Jo A. Pendry, Concession Program Manager, National Park Service, 1849 C Street, NW., Washington, DC 20240. Phone: 202/513-7144; Fax: 202/371-2090.

SUPPLEMENTARY INFORMATION: Title: Leasing Regulations—36 CFR 18.

OMB Control Number: 1024-0233.

Expiration Date of Approval: June 30, 2007.

Type of Request: Extension of a currently approved information collection.

Description of Need: The information is being collected to meet the requirements of Section 802 of the NPS Omnibus Management Improvement Act of 1998, concerning the legislative authority, policies, and requirements for the solicitation, award and administration of National Park Service leases for property located within area of the national park system.

Comments are invited on: (1) The practical utility of the information being gathered; (2) the accuracy of the agency's burden hour estimate; (3) ways to enhance the quality, utility and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of collection: Once.

Description of Respondents: Persons or entities seeking a leasing opportunity with the National Park Service.

Estimated Annual Responses: 627.

Estimated Average Burden Hours per Response: 7.

Estimated Total Annual Burden Hours: 4,392.

Dated: March 23, 2007.
Leonard E. Stowe,
NPS Information Collection Clearance Officer.

[FR Doc. 07-1570 Filed 3-29-07; 8:45 am]

BILLING CODE 4312-53-M